DEPARTMENT OF COMMERCE

National Oceanic and Atmospheric Administration

Proposed Information Collection; Comment Request; Applications and Reporting Requirements for the Incidental Take of Marine Mammals by Specified Activities Under the Marine Mammal Protection Act

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 9, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Kenneth R. Hollingshead, (301) 713-2055, ext. 128 or ken.hollingshead@noaa.gov.

SUPPLEMENTARY INFORMATION:

I. Abstract

The Marine Mammal Protection Act (MMPA) prohibits the taking by harassment, injury, or mortality of marine mammals unless exempted or authorized by permit. The incidental-take program authorizes the taking of marine mammal incidental to maritime activities (military, oil industry, oceanographic research). It is the responsibility of the activity to determine if it might have a “taking” and, if it does, to apply for an authorization. Applications are necessary for NOAA to know that an authorization is needed and to determine whether authorization can be made under the MMPA. The reporting requirements are mandated by the MMPA and are necessary to ensure that determinations made concerning the impact on marine mammals are valid.

II. Method of Collection

Applications and reports are submitted by paper copy via overnight delivery and via e-mail to provide us with the .pdf and .doc copies that we use to work on the application and for posting for the public to download and review. While our application instructions are posted on the Web, we do not have the ability to accept applications via the Web. We are currently beta-testing the system for accepting applications for scientific research permits which we may be able to apply to this information collection also.

III. Data

OMB Number: 0648-0151.

Form Number: None.

Type of Review: Regular submission.

Affected Public: Business or other for-profit organizations; not-for-profit institutions; and State, Local, or Tribal Government.

Estimated Number of Respondents: 72.

Estimated Time Per Response: 483 hours for a request for new or the renewal of regulations; 45 hours for an application for Letter of Authorization (response times vary significantly based on the complexity of the application); 200 hours for an application for an Incidental Harassment Authorization; and 93-120 hours for a 90-day, quarterly, or annual report under a Letter of Authorization or Incidental Harassment Authorization.

Estimated Total Annual Burden Hours: 12,376.

Estimated Total Annual Cost to Public: $1,359.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 31, 2007.
Gwellnar Banks,
Management Analyst, Office of the Chief Information Officer.

[FR Doc. E7-1822 Filed 2-5-07; 8:45 am]

BILLING CODE 3510-22-P